DEPARTMENT OF HEALTH AND HUMAN SERVICES

Administration for Children and Families

Proposed Information Collection Activity; Comment Request

Proposed Projects

Title: ACF/HHS Supporting Healthy Marriage (SHM) Evaluation Focus Groups.

OMB No.: New Collection.

Description: The Administration for Children and Families (ACF), U.S. Department of Health and Human Services (HHS), is conducting a demonstration and evaluation called the Supporting Healthy Marriage (SHM) Project. The project is a large-scale, multi-site, multi-year, rigorous test of marriage education programs for interested low-income married couples, and is based on a substantial body of research that has shown a relationship between healthy marriages and a variety of positive child and family outcomes. The SHM Project is designed to inform program operators and policymakers of the most effective ways to help couples who voluntarily choose to participate in demonstrations designed to strengthen and maintain healthy marriages. The focus groups will provide key information about the perspectives of low-to-moderate-income couples regarding marriage, relationships, and marriage education programs; assist ACF and program managers in designing responsive healthy marriage programs; and will help to ensure that the project is testing the strongest possible program models for its target populations.

Respondents: The respondents will be selected to represent low-to-moderate income couples in each of the following categories, whose views can help us to design effective SHM programs: Married couples and those planning to marry, couples with and without children, and couples who have had experience with marriage education programs as well as those who have not. There will also be an effort to include African American and Hispanic couples. Focus groups will be divided into separate discussions for those who are married and for those who are planning to marry. Each of these focus groups will be further separated into discussions for couples, for men only, and for women only. Each focus group will have approximately 10 respondents for a total of 180 respondents over 2 years (approximately 12 focus groups will take place in the first year and 6 focus groups in the second). Total burden hours are listed in the table that follows.

Annual Burden Estimates
Instrument | Number of respondents | Number of responses per respondent | Average burden hours per response | Total burden hours
Married Mixed Gender Focus Group Protocol | 40 | 1 | 2 | 80
Married Male Focus Group Protocol | 40 | 1 | 2 | 80
Married Female Focus Group Protocol | 40 | 1 | 2 | 80
Planning-to-Marry Mixed Gender Focus Group | 20 | 1 | 2 | 40
Planning-to-Marry Male Focus Group Protocol | 20 | 1 | 2 | 40
Planning-to-Marry Female Focus Group Protocol | 20 | 1 | 2 | 40

Estimated Total Annual Burden Hours: 360.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: grjohnson@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: October 26, 2004.
Robert Sargis,
Reports Clearance Officer.

[FR Doc. 04-24346 Filed 10-29-04; 8:45 am]

BILLING CODE 4184-01-M